ENVIRONMENTAL PROTECTION AGENCY

[ER-FRL-6635-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17922).

Draft EISs

ERP No. D-AFS-L65404-AK Rating EC2, Kosciusko Island Timber Sale(s), Timber Harvesting, Tongass National Forest, Thorne Bay Ranger District, Kosciusko Island, AK.

Summary: EPA expressed environmental concerns about potential adverse impacts to water quality and quantity from road construction and timber harvest and aquatic resources in roadless areas, especially the Van Sant Creek watershed. EPA recommends that the final EIS include additional information on project impacts to these resources and on the drinking water supply.

ERP No. D-FHW-F40407-IN Rating EO2, I-69 Evansville to Indianapolis Corridor Study, I-69 Completion in Southwestern Indiana and Corridor Selection, IN.

Summary: EPA expressed environmental objections regarding the magnitude of impacts to wetland and aquatic resources, forests, farmland, and potential impacts to sensitive karst features. EPA expressed concern regarding future project compliance with Section 404 of the Clean Water Act and recommended the agencies reevaluate alternatives.

ERP No. D-FHW-J40156-ND Rating EC2, US 2 Highway Transportation Improvements from near U.S. 85 (milepost 31.93) to west of U.S. 52 (milepost 131.24), Funding, NPDES and U.S. Army COE Section 404 Permits Issuance, Williams, Mountrail and Ward Counties, ND.

Summary: EPA has environmental concerns about substantial losses of wetlands as a result of expanding the highway from two to four lanes. EPA recommends the development of an alternative with fewer impacts to wetlands and inclusion of sufficient information that is necessary to streamline the NEPA and 404 permit processes.

ERP No. D-NPS-J61022-MT Rating EC2, Glacier National Park—Going-to-Sun Road Rehabilitation Plan to Protect and Preserve a National Historic Landmark, Waterton-Glacier International Peace Park, The World's First International Peace Park, A World Heritage Site, MT.

Summary: EPA expressed environmental concerns with potential construction impacts to water quality, especially consistency of proposed road improvements with restoration and TMDL development. EPA also has concerns about potential impacts from disturbance to sensitive and fragile vegetation (e.g., State rare velvet-leaf blueberry plant), and wildlife and habitat adjacent to the roadway and near proposed visitor facility improvements.

ERP No. DS-AFS-F05123-00 Rating LO, Bond Falls Hydroelectric Project related to Terms and Conditions for Geology and Soils, Water Quality and Quantity, Fisheries, Terrestrial, Recreation, Aesthetic, Cultural, Socioeconomic and Land Use Resources, Ontonagon River Basin, Valas County, WI and Ontonagon and Gogebic Counties, MI.

Summary: EPA has no objections to the proposed terms and conditions for the Bond Falls Hydroelectric Relicensing Project.

ERP No. DS-AFS-L61199-ID Rating NS, Salmon Wild and Scenic River Management Plan, Timeline Change From December 31, 2002 to December 31, 2005 and Clarification of Economic Impacts on the Camps, Stub Creek, Arctic Creek and Smith Gulch Creek, Salmon National Forest, Salmon County, ID.

Summary: EPA Region 10 used a screening tool to conduct a limited review of the Salmon Wild and Scenic River Management Plan. Based upon the screen, EPA does not foresee having any environmental objections to the proposed project. Therefore, EPA will not be conducting a detailed review.

Final EISs

ERP No. F-AFS-J65361-MT Black Ant Salvage Project, Salvage of 739 Acres of Dead Merchantable Trees from the Lost Fork Fire of 2001, Lewis and Clark National Forest, Meagher Basin County, MT.

Summary: EPA's environmental concerns about increased potential for erosion and sediment transport and compaction of sensitive post-fire soils during salvage logging were reduced with the selection of a new winter logging alternative. EPA recommended mitigation measures to avoid rutting of logging roads during spring breakup that could increase sediment to down-gradient 303(d) listed streams.

ERP No. F-NPS-E65058-GA Fort Frederica National Monument General Management Plan, Implementation, Saint Simons Island, Glynn County, GA.

Summary: EPA did not identify any potential environmental impacts.

Dated: November 18, 2002.
B. Katherine Biggs,
Associate Director, NEPA Compliance Division, Office of Federal Activities.

[FR Doc. 02-29782 Filed 11-21-02; 8:45 am]

BILLING CODE 6560-50-P